DEPARTMENT OF THE INTERIOR

Fish and Wildlife Service

[FWS-R3-ES-2011-N096; 30120-1112-000-F2]

Notice of Intent To Prepare a Draft Environmental Impact Statement for a Proposed Habitat Conservation Plan and Incidental Take Permit

AGENCY: Fish and Wildlife Service, Interior.

ACTION: Notice of intent; request for comments.

SUMMARY: We, the U.S. Fish and Wildlife Service (Service), advise the public that we intend to prepare a draft environmental impact statement (EIS) to evaluate the impacts of several alternatives relating to the proposed issuance of an Endangered Species Act Permit to Fowler Ridge Wind Farm LLC, Fowler Ridge Wind Farm II LLC, Fowler Ridge Wind Farm III LLC, and Fowler Ridge Wind Farm IV LLC (Applicant) for incidental take of the Indiana bat (Myotis sodalis), a Federal endangered species, from activities associated with the operation of Fowler Ridge Wind Farm in Benton County, Indiana. We also announce a public comment period.

DATES: The public scoping period begins with publication of this notice in the Federal Register and will continue through June 23, 2011. The Service will consider all comments defining the scope of the EIS that are received or postmarked by this date. Comments received or postmarked after this date will be considered to the extent practicable. The Service will conduct a public scoping meeting in Fowler, IN, on June 7, 2011. The scoping meeting will provide the public with an opportunity to present comments, ask questions, and discuss issues with Service staff regarding the EIS.

ADDRESSES: You may submit comments by U.S. mail or hand-delivery to Mr. Scott Pruitt, U.S. Fish and Wildlife Service, 621 South Walker St., Bloomington, Indiana, 47403; electronic mail: FowlerRidgeHCP@fws.gov; or fax: (812) 334-4273 (Attention: Scott Pruitt).

FOR FURTHER INFORMATION CONTACT: Mr. Scott Pruitt at (812) 334-4261. Individuals who are hearing-impaired or speech-impaired may call the Federal Relay Service at (800) 877-8337 for TTY assistance.

SUPPLEMENTARY INFORMATION: We publish this notice in compliance with the National Environmental Policy Act of 1969 (NEPA), as amended (42 U.S.C. 4321 et seq.), and its implementing regulations (40 CFR 1501.7, 1506.6, and 1508.22), and Section 10(c) of the Endangered Species Act of 1973 (the Act), as amended (16 U.S.C. 1539(c)). We intend to gather the information necessary to determine impacts and alternatives to support a decision regarding the potential issuance of an incidental take permit to the Applicant, and the implementation of the supporting draft habitat conservation plan (HCP). We intend to prepare an EIS to evaluate the impacts of several alternatives relating to the proposed issuance of an incidental take permit (ITP) under the Act. The applicant proposes to apply for an incidental take permit through development and implementation of an HCP. The proposed HCP will cover take of the Indiana bat that is incidental to activities associated with the operation of Fowler Ridge Wind Farm, and will include measures necessary to minimize and mitigate impacts to the Indiana bat and its habitat to the maximum extent practicable.

Request for Information

The Service requests data, comments, new information, or suggestions from the public, other concerned governmental agencies, the scientific community, Tribes, industry, or any other interested party on this notice. These comments will be considered in the development of a draft EIS, in the development of a draft HCP by the applicant, and in the determination of whether to issue an ITP. We particularly seek comments concerning:

(1) Biological information concerning the Indiana bat;

(2) Relevant data concerning wind power and bat interactions;

(3) Additional information concerning the range, distribution, population size, and population trends of the Indiana bat;

(4) Current or planned activities in the subject area and their possible impacts on the Indiana bat;

(5) Any information identified in the aforementioned as it relates to other bat species, in particular, tree bat species such as red bat (Lasiurus borealis), hoary bat (Lasiurus cinereus), and silver-haired bat (Lasionycteris noctivagans) that occur in the project area;

(6) The presence of archeological sites, buildings and structures, historic events, sacred and traditional areas, and other historic preservation concerns, which are required to be considered in project planning by the National Historic Preservation Act (16 U.S.C. 470 et seq.); and

(7) Identification of any other environmental issues that should be considered with regard to the proposed development and permit action.

Public Comments

You may submit your comments and materials considering this notice by one of the methods listed in the ADDRESSES section.

Comments and materials we receive, as well as supporting documentation we use in preparing the NEPA document will be available for public inspection by appointment, during normal business hours, at the U.S. Fish and Wildlife Service, Bloomington Indiana Field Office (see FOR FURTHER INFORMATION CONTACT section). You may obtain copies of this notice on the Internet at: http://www.fws.gov/midwest/Endangered/permits/hcp/r3hcps.html, or by mail from the Bloomington Indiana Field Office (see FOR FURTHER INFORMATION CONTACT section).

Background

Section 9 of the Act prohibits “take” of fish and wildlife species listed as endangered under section 4 (16 U.S.C. 1538, 1533, respectively). The Act's implementing regulations extend, under certain circumstances, the prohibition of take to threatened species (50 CFR 17.31). Under section 3 of the Act, the term “take” means “to harass, harm, pursue, hunt, shoot, wound, kill, trap, capture, or collect, or to attempt to engage in any such conduct” (16 CFR part 1521). The term “harm” is defined by regulation as “an act which actually kills or injures wildlife. Such act may include significant habitat modification or degradation where it actually kills or injures wildlife by significantly impairing essential behavioral patterns, including breeding, feeding, or sheltering” (50 CFR 17.3). The term “harass” is defined in the regulations as “an intentional or negligent act or omission which creates the likelihood of injury to wildlife by annoying it to such an extent as to significantly disrupt normal behavioral patterns which include, but are not limited to, breeding, feeding, or sheltering” (50 CFR 17.3).

Section 10(a)(2)(A) of the Act requires an applicant for an incidental take permit to prepare an HCP that describes:

(1) The impact that will likely result from such taking;

(2) the steps the applicant will take to minimize and mitigate such impacts, and the funding that will be available to implement such steps;

(3) the alternative actions to such taking that the applicant considered and the reasons why such alternatives are not being utilized; and

(4) the other measures that the Secretary may require as being necessary or appropriate for the purposes of the plan (16 U.S.C. 1539(a)(2)(A)).

Section 10(a)(2)(B) of the Act requires the Secretary to issue an incidental take permit to an applicant when it determines that:

(1) The taking will be incidental;

(2) the applicant will, to the maximum extent practicable, minimize and mitigate the impacts of such taking;

(3) the applicant has ensured that adequate funding for the plan will be provided;

(4) the taking will not appreciably reduce the likelihood of the survival and recovery of the species in the wild; and

(5) the measures, if any, the Secretary may require as necessary or appropriate for the purposes of the plan will be met (16 U.S.C. 1539(a)(2)(B)).

Regulations governing permits for endangered and threatened species are at 50 CFR 17.22 and 17.32.

The Indiana bat was added to the list of Endangered and Threatened Wildlife and Plants on March 11, 1967 (32 FR 4001). It is currently listed as an endangered species under the Act. The population decline of this species is attributed to habitat loss and degradation of both winter hibernation habitat and summer habitat, human disturbance during hibernation, and possibly pesticides. An additional and emerging threat to Indiana bats is White-Nose Syndrome (WNS). WNS is associated with a recently discovered fungus (Geomyces destructans) that affects the skin and wing membranes of bats. Over 1 million bats of 6 species, including the federally endangered Indiana bat, have died in eastern North America from WNS since 2006. The range of the Indiana bat includes much of the eastern United States, and Indiana is located within the core of the species' range; approximately half of the known population of Indiana bats hibernates in Indiana.

Winter habitat for the Indiana bat includes caves and mines that support high humidity and cool but stable temperatures. In the summer, Indiana bats often roost under loose bark of dead or dying trees. During summer, males roost alone or in small groups while females and their offspring roost in larger groups of up to 100 or more. Indiana bats forage for insects in and along the edges of forested areas and wooded stream corridors. Maternity colonies of Indiana bats occur throughout Indiana. FRWF is located approximately 100 miles from the nearest known hibernaculum, and it is unlikely that Benton or surrounding counties contain Indiana bat hibernacula.

Proposed Action—Modified Operations Alternative

The proposed action is issuance of an incidental take permit (ITP) for the Indiana bat during operation of Phases I, II, III, and IV of the Applicant's FRWF. The proposed HCP, which must meet the requirements in section 10(a)(2)(A) of the Act, would be developed and implemented by the applicant, and will include measures necessary to minimize and mitigate impacts to the Indiana bat and its habitat to the maximum extent practicable. The HCP will present the Applicant's plan to modify operations to avoid, minimize, and mitigate impacts to endangered species that are present or migrating through the action area.

The Applicant for the ITP is developing and operating a wind power project in Benton County, Indiana. The area under lease for the FRWF is approximately 54,880 acres (ac) (22,209 hectares (ha)) within portions of Richland, Parish Grove, Center, Pine, Hickory Grove, Grant and Oak Grove Townships. The wind power project includes the operation of 355 existing wind turbine generators during the first three phases of the project, and construction and operation of up to 93 additional turbines at Phase IV of the project, for a total of up to 448 wind turbines. The project would also include all associated collector lines, access roads, utility lines, substations, operation and maintenance facility buildings, and temporary staging areas and concrete batch plants, if applicable. Up to five different models of wind turbines may be in use at various times during the four phases of FRWF. The wind turbine hub height at Phases I, II, and III is 263 feet (ft) (80 meters (m)), with the rotor diameter varying from 253 ft (77 m) to 315 ft (96 m), depending on the type of turbine. Approximate total height at the rotor apex at Phases I, II, and III varies from 389 ft (118.5 m) to 446 ft (136.5 m), depending on the type of turbine. The proposed wind turbine hub height for Phase IV would range 263-328 ft (80-100 m), depending on the type of turbine selected. Rotor diameters at Phase IV may vary from 253 to 371 ft (77 to 113 m), depending on the type of turbine selected. Approximate total height at the rotor apex would vary from 389 to 514 ft (118.5 to 156.5 m). Installation of each individual turbine will temporarily impact an area of approximately 2.9 ac (1.2 ha), while the final footprint of each turbine will be approximately 0.2 ac (0.08 ha). Access roads to the turbines will have a temporary width of up to 55 ft (17 m) during construction and a permanent width of 16 to 20 ft (4.8 to 6.1 m).

The project is located in a rural setting, with the landscape primarily composed of agricultural properties. Of the roughly 72,953 ac (29,523 ha) within 0.5 mi (0.8 km) of turbine locations, row crops comprise about 93 percent of the land use for the study area. After tilled agriculture, the next most common land uses within the FRWF are developed areas (e.g., houses and buildings), which comprise 5.0 percent of the total, and pastures/hayfields, which comprise 1.4 percent of the total. There are 22.8 ac (9.2 ha) of grasslands, which compose less than 0.1 percent of the study area. Grasslands in the study area are limited primarily to strips along drainages, railroad rights-of-way (ROW), and ROWs along county and State roads. Trees in the study area occur at homesteads, along some of the drainages and fencerows, and within some small, isolated woodlots. Forested areas are rare within the study area, based on 2001 data, and the 249.3 ac (100.8 ha) of forest comprise 0.5 percent of the total area. Small amounts of barren ground, open water, and woody wetlands are also present.

Despite the relatively small acreage of land to be affected by the project, impacts to wildlife, particularly birds and bats, are anticipated. Minimization for potential impacts to Indiana bats will include a turbine operational management adjustment program developed based on the results of post-construction studies conducted at Phases I, II, and III of the project.

Any turbine operational management adjustment program is likely to contain various measures to avoid and minimize impacts to Indiana bats, including the impact of lethal take. Various methods that may be considered include, but are not limited to: Protection of roost trees and surrounding habitat, set-back distances from known roost trees, mapping and avoidance of foraging areas, protection and enhancement of Indiana bat habitat outside the project area, various operational adjustments for turbines during prime activity or migration periods, and post-construction monitoring for fatalities.

Alternatives to the Proposed Action

In addition to the proposed action, there is one additional action alternative that is currently under consideration related to the proposed issuance of an ITP to the Applicant for activities associated with operation of the Fowler Ridge Wind Farm. These alternatives, and possibly additional alternatives, will be considered in the draft EIS, along with the potential impacts associated with each alternative. Each action alternative analyzed in the draft EIS will be compared to the No Action alternative. The No Action alternative represents estimated future conditions to which the proposed action can be compared.

No Action Alternative

Under the No Action Alternative, an ITP pursuant to Section 10(a)(1)(B) of the Act would not be issued for the existing phases or the future Phase IV of the Fowler Ridge Wind Farm. The existing phases of the project would continue to fully operate, and Phase IV would fully operate once construction is complete. Under the No Action Alternative, the applicant would not have coverage for an incidental take of the Indiana bat and would be at risk of violation of Section 9 of the Act. In addition, no HCP would be produced; therefore, the Indiana bat would not have the protections afforded to it through development and implementation of an HCP. The proposed project purpose would not be met under the No Action Alternative.

Maximally Restricted Operations Alternative

Under the Maximally Restricted Operations Alternative, an ITP would be issued; Phases I, II and III would continue to operate; and Phase IV would be constructed as described under Proposed Action—i.e., full build-out of up to 448 turbines. Minimization for potential impacts to Indiana bats would include shutting down turbines at night during the period from April 1 through October 31, the active period for Indiana bats. This minimization would occur during all four phases of the project, every year the FRWF is in operation.

Environmental Review

The Service will conduct an environmental review to analyze various alternatives for implementing the proposed action and the associated impacts of each. The draft EIS will be the basis for the impact evaluation for Indiana bats and the range of alternatives to be addressed. The draft EIS is expected to provide biological descriptions of the affected species and habitats, as well as the effects of the alternatives on other resources such as vegetation, wetlands, wildlife, geology and soils, air quality, water resources, water quality, cultural resources, land use, recreation, water use, local economy, and environmental justice. Following completion of the environmental review, the Service will publish a notice of availability and a request for comments on the draft EIS and the Applicant's permit application, which will include the draft HCP. The draft EIS and draft HCP are expected to be completed and available to the public in late 2011.

Authority

This notice is being furnished as provided for by NEPA, the NEPA regulations, and the Act. The intent of the notice is to obtain suggestions and additional information from other agencies and the public on the scope of issues to be considered. Comments and participation in this scoping process are solicited.

Dated: May 9, 2011.
Lynn Lewis,
Assistant Regional Director, Ecological Services, Region 3, Fort Snelling, MN.

[FR Doc. 2011-12860 Filed 5-24-11; 8:45 am]

BILLING CODE 4310-55-P